DEPARTMENT OF ENERGY

Federal Energy Regulatory Commission

[Project No. 14690-000]

Blue River Hydro Power, LLC; Notice of Preliminary Permit Application Accepted for Filing and Soliciting Comments, Motions To Intervene, and Competing Applications

On July 1, 2015, Blue River Hydro Power, LLC filed an application for a preliminary permit, pursuant to section 4(f) of the Federal Power Act (FPA), proposing to study the feasibility of the Blue River Hydroelectric Project (Blue River Project or project) to be located at Blue River Dam near the Town of Blue River in Lane County, Oregon. The sole purpose of a preliminary permit, if issued, is to grant the permit holder priority to file a license application during the permit term. A preliminary permit does not authorize the permit holder to perform any land-disturbing activities or otherwise enter upon lands or waters owned by others without the owners' express permission.

The proposed project would utilize flows at the existing Blue River Dam, and would consist of the following new features: (1) A 12-foot-diameter, 500-foot-long steel liner pipe installed in the downstream portion of the existing dam outlet tunnel, (2) a gatehouse containing two 7-foot-wide, 8-foot-high steel slidegates to regulate pipe pressure and release excess water, (3) a 9-foot- to 12-foot-diameter, 600-foot-long steel penstock, (4) a 70-foot-wide, 55-foot-long reinforced concrete powerhouse, (5) two 10 megawatt vertical-shaft Francis turbine/generators, (6) an approximately 40-foot-wide, 40-foot-long concrete tailrace returning flows to the Blue River, (7) a switchyard and a 2.5-mile-long, 12.5-kilovolt buried transmission line interconnecting with Lane Electric Cooperative's existing Blue River substation, and (8) appurtenant facilities. The estimated annual generation of the Blue River Project would be 50 gigawatt-hours.

Applicant Contact: Mr. Rett Hubbard, Blue River Hydro Power, LLC, 285 East Oregon Avenue, Suite 7, Creswell, Oregon 97426; phone: (541) 632-4706.

FERC Contact: Sean O'Neill; phone: (202) 502-6462.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14690-000.

More information about this project, including a copy of the application, can be viewed or printed on the “eLibrary” link of Commission's Web site at http://www.ferc.gov/docs-filing/elibrary.asp. Enter the docket number (P-14690) in the docket number field to access the document. For assistance, contact FERC Online Support.

Dated: August 28, 2015.
Kimberly D. Bose,
Secretary.

[FR Doc. 2015-21987 Filed 9-3-15; 8:45 am]

BILLING CODE 6717-01-P